DEPARTMENT OF AGRICULTURE

Animal and Plant Health Inspection Service

[Docket No. 04-076-2]

Monsanto Co.; Availability of Petition and Environmental Assessment for Determination of Nonregulated Status for Cotton Genetically Engineered for Tolerance to the Herbicide Glyphosate

AGENCY: Animal and Plant Health Inspection Service, USDA.

ACTION: Notice.

SUMMARY: We are advising the public of the availability of an addendum to a petition from Monsanto Company seeking a determination of nonregulated status for cotton designated as MON 88913, which has been genetically engineered for tolerance to the herbicide glyphosate. The petition has been submitted in accordance with our regulations concerning the introduction of certain genetically engineered organisms and products. In accordance with those regulations, we are soliciting public comments on whether this cotton presents a plant pest risk. We are also making available for public comment an environmental assessment for the proposed determination of nonregulated status. The content of the addendum does not impact the environmental assessment. However, the information contained within the addendum may add clarity to the review of the petition by the public.

DATES: We will consider all comments we receive on or before December 3, 2004.

ADDRESSES: You may submit comments by any of the following methods:

• Postal Mail/Commercial Delivery: Please send four copies of your comment (an original and three copies) to Docket No. 04-076-1, Regulatory Analysis and Development, PPD, APHIS, Station 3C71, 4700 River Road Unit 118, Riverdale, MD 20737-1238. Please state that your comment refers to Docket No. 04-076-1.

• E-mail: Address your comment to regulations@aphis.usda.gov. Your comment must be contained in the body of your message; do not send attached files.

• Agency Web Site: Go to http://www.aphis.usda.gov/ppd/rad/cominst.html for a form you can use to submit an e-mail comment through the APHIS Web site.

Reading Room: You may read the amended petition, the environmental assessment, and any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Mr. Michael Blanchette, Biotechnology Regulatory Services, APHIS, 4700 River Road Unit 147, Riverdale, MD 20737-1236; (301) 734-5141. To obtain copies of the amended petition or the environmental assessment, contact Ms. Terry Hampton at (301) 734-5715; e-mail: Terry.A.Hampton@aphis.usda.gov. The amended petition and environmental assessment are also available on the Internet at http://www.aphis.usda.gov/brs/aphisdocs/04_08601p.pdf and http://www.aphis.usda.gov/brs/aphisdocs/04_08601p_ea.pdf.

SUPPLEMENTARY INFORMATION: On October 4, 2004, we published a notice in the Federal Register (69 FR 59181-59182, Docket No. 04-076-1) in which we advised the public that the Animal and Plant Health Inspection Service (APHIS) has received a petition from Monsanto Company of St. Louis, MO (Monsanto) seeking a determination of nonregulated status for cotton designated as MON 88913, which has been genetically engineered for tolerance to the herbicide glyphosate. The petition has been submitted in accordance with our regulations concerning the introduction of certain genetically engineered organisms and products. In accordance with those regulations, our notice solicits public comments on whether this cotton presents a plant pest risk. In the notice, we also made available for public comment an environmental assessment (EA) for the proposed determination of nonregulated status. As stated in that notice, we will consider all comments we receive on or before December 3, 2004.

On November 8, 2004, APHIS received a letter from Monsanto amending the petition made available for public comment in our October 4, 2004, notice. The information in the addendum clarifies information in the petition with respect to the molecular genetic characterization of the inserted DNA and corrects portions of that section. APHIS promptly reviewed these changes and determined that they had no impact on the EA we prepared to examine any environmental impacts of the proposed determination for the subject cotton. The addendum has been added to the petition file and is available to facilitate the review of the petition.

We continue to solicit written comments from interested persons on the petition and the EA. In addition to the amended petition, the EA and any comments received are available for public review. Copies of the amended petition and the EA are available as indicated in the FOR FURTHER INFORMATION CONTACT section of this notice.

After the comment period closes, APHIS will review the data submitted by the petitioner, all written comments received during the comment period, and any other relevant information. After reviewing and evaluating the comments on the petition and the EA and other data and information, APHIS will furnish a response to the petitioner, either approving the petition in whole or in part, or denying the petition. APHIS will then publish a notice in the Federal Register announcing the regulatory status of Monsanto's glyphosate-tolerant MON 88913 cotton and the availability of APHIS' written decision.

Authority: 7 U.S.C. 1622n and 7701-7772; 31 U.S.C. 9701; 7 CFR 2.22, 2.80, and 371.3.

Done in Washington, DC, this 18th day of November 2004.
Kevin Shea,
Acting Administrator, Animal and Plant Health Inspection Service.

[FR Doc. E4-3316 Filed 11-23-04; 8:45 am]

BILLING CODE 3410-34-P